DEPARTMENT OF COMMERCE

Foreign-Trade Zones Board

[B-03-2020]

Foreign-Trade Zone (FTZ) 90—Syracuse, New York; Authorization of Production Activity; PPC Broadband, Inc. (Hardline Coaxial Cables). Dewitt, New York

On January 22, 2020, PPC Broadband, Inc., submitted a notification of proposed production activity to the FTZ Board for its facility within Subzone 90C, in Dewitt, New York.

The notification was processed in accordance with the regulations of the FTZ Board (15 CFR part 400), including notice in the Federal Register inviting public comment (85 FR 5372-5373, January 30, 2020). On May 21, 2020, the applicant was notified of the FTZ Board's decision that no further review of the activity is warranted at this time. The production activity described in the notification was authorized, subject to the FTZ Act and the FTZ Board's regulations, including Section 400.14.

Dated: May 21, 2020.
Andrew McGilvray,
Executive Secretary.

[FR Doc. 2020-11454 Filed 5-27-20; 8:45 am]

BILLING CODE 3510-DS-P